SOCIAL SECURITY ADMINISTRATION

5 CFR Chapter LXXXI

RINs 0960-AE48, 3209-AA15

Supplemental Standards of Ethical Conduct for Employees of the Social Security Administration

AGENCY: Social Security Administration (SSA).

ACTION: Proposed rules; reopening of comment period.

SUMMARY: On February 11, 2005, SSA, with the concurrence of the Office of Government Ethics (OGE), published a notice of proposed rulemaking (NPRM) in the Federal Register (70 FR 7192-7196) that would supplement, for officers and employees of SSA, the OGE Standards of Ethical Conduct for Employees of the Executive Branch. The proposed regulations would set forth prohibitions and prior approval requirements for certain outside employment and other outside activities for all SSA employees, except special Government employees, and would set forth additional prior approval requirements for SSA Administrative Law Judges. To allow the public additional time to send us comments, we are reopening the comment period.

DATES: To be sure that your comments are considered, we must receive them by June 3, 2005.

ADDRESSES: You may give us your comments by: using our Internet facility (i.e., Social Security Online) at http://policy.ssa.gov/pnpublic.nsf/LawsRegs; e-mail to regulations@ssa.gov; telefax to (410) 966-2830; or letter to the Commissioner of Social Security, P.O. Box 17703, Baltimore, MD 21235-7703. You may also deliver them to the Office of Regulations, Social Security Administration, 100 Altmeyer Building, 6401 Security Boulevard, Baltimore, MD 21235-6401, between 8 a.m. and 4:30 p.m. on regular business days. Comments are posted on our Internet site, or you may inspect them physically on regular business days by making arrangements with the contact person shown in this preamble.

Electronic Version

The electronic file of this document is available on the date of publication in the Federal Register at http://www.gpoaccess.gov/fr/index.html. It is also available on the Internet site for SSA (i.e., Social Security Online) at http://policy.ssa.gov/pnpublic.nsf/LawsRegs.

FOR FURTHER INFORMATION CONTACT: Asim A. Akbari, Office of the General Counsel, Office of General Law, telephone (410) 966-6581, fax (410) 597-0071, or TTY 1-410-966-5609. For information on eligibility or filing for benefits, call our national toll-free numbers, 1-800-772-1213 or TTY 1-800-325-0778, or visit our Internet Web site, Social Security Online, at http://www.socialsecurity.gov.

SUPPLEMENTARY INFORMATION: On February 11, 2005 (70 FR 7192-7196), we published “Supplemental Standards of Ethical Conduct for Employees of the Social Security Administration” as an NPRM, with a 30-day public comment period. This NPRM would set forth prohibitions and prior approval requirements for certain outside employment and other outside activities for all SSA employees, except special Government employees, and would set forth additional prior approval requirements for SSA Administrative Law Judges. SSA has received a request to extend the comment period. This factor, and the importance of the proposed rule, makes it appropriate to reopen the comment period for another 30 days, through June 3, 2005. If you have already provided comments on the NPRM, your comments will be considered and you do not need to resubmit them.

Dated: April 21, 2005.
Jo Anne B. Barnhart,
Commissioner of Social Security.
Approved: April 25, 2005.
Marilyn L. Glynn,
Acting Director, Office of Government Ethics.

[FR Doc. 05-8848 Filed 5-3-05; 8:45 am]

BILLING CODE 4191-02-P